DEPARTMENT OF AGRICULTURE

Animal and Plant Health Inspection Service

9 CFR Parts 93 and 98

[Docket No. 02-064-1]

Canadian Border Ports; Blaine and Lynden, WA

AGENCY: Animal and Plant Health Inspection Service, USDA.

ACTION: Direct final rule.

SUMMARY: We are amending the regulations by removing Blaine and Lynden, WA, from the lists of Canadian border ports designated as ports of entry for the importation of certain animals, birds, poultry, and animal germ plasm into the United States. We are removing the ports of Blaine and Lynden, WA, from the lists of designated Canadian border ports for the importation of animals, birds, poultry, or germ plasm into the United States because neither port has been used for those purposes in approximately 4 years. This rule will update the regulations so that they accurately reflect the ports used for the importation of certain animals and animal semen into the United States.

DATES: This rule will be effective on January 7, 2003, unless we receive written adverse comments or written notice of intent to submit adverse comments on or before December 9, 2002. If we receive written adverse comments or written notice of intent to submit adverse comments, we will publish a document in the Federal Register withdrawing this rule before the effective date.

ADDRESSES: You may submit comments or notice of intent to submit adverse comments by postal mail/commercial delivery or by e-mail. If you use postal mail/commercial delivery, please send four copies (an original and three copies) to: Docket No. 02-064-1, Regulatory Analysis and Development, PPD, APHIS, Station 3C71, 4700 River Road Unit 118, Riverdale, MD 20737-1238. Please state that your comment refers to Docket No. 02-064-1. If you use e-mail, address your comment to regulations@aphis.usda.gov. Your comment must be contained in the body of your message; do not send attached files. Please include your name and address in your message and “Docket No. 02-064-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Gary Colgrove, Chief Staff Veterinarian, Sanitary Issues Management Staff, National Center for Import and Export, VS, APHIS, 4700 River Road Unit 38, Riverdale, MD 20737-1231; (301) 734-4356.

SUPPLEMENTARY INFORMATION:

Background

The regulations in 9 CFR parts 93 and 98 (referred to below as the regulations) restrict the importation of specified animals, birds, poultry, and their products into the United States to prevent the introduction of communicable diseases of livestock and poultry. The regulations designate land border ports along the U.S.-Canadian border that have inspection facilities for the importation of certain animals, birds, poultry, and animal germ plasm requiring inspection.

The regulations in part 93 specify, among other things, the Canadian border ports through which certain animals may be imported into the United States. The designated Canadian border ports for ratites are listed in § 93.107(b)(2); for poultry, in § 93.203(b); for horses, in § 93.303(b)(1); for ruminants, in § 93.403(b); for swine, in § 93.503(b); and for miscellaneous animals, in § 98.703(a)(2). In part 98, § 98.6 provides that animal embryos regulated under subpart A of part 98 may be imported at the ports of entry listed in § 93.303 for horses, § 93.403 for ruminants, or § 93.503 for swine, and § 98.33(b) lists the Canadian border ports through which certain animal semen from Canada may be imported.

Blaine, Lynden, and Sumas, WA, which are in geographical proximity to one another, are among the ports of entry currently listed in the regulations. Of those three ports, Sumas, WA, is now used exclusively for the importation of certain animals, ratites, poultry, and animal germ plasm into the United States because Blaine and Lynden, WA, have not been used as ports of entry for those purposes in approximately 4 years. Therefore, in accordance with the procedures explained below under “Dates,” we are amending § 93.107(b)(2) by removing Blaine, WA, from the list of Canadian border ports for ratites from Canada, and by removing Blaine and Lynden, WA, from the lists of Canadian border ports in §§ 93.203(b), 93.303(b)(1), 93.403(b), 93.503(b), 93.703(a)(2), and 98.33(b).

Removing Blaine and Lynden, WA, from the lists of Canadian border ports will update the regulations so that they accurately reflect the ports of entry for the importation of certain animals, birds, poultry, and animal germ plasm into the United States.

Dates

We are publishing this rule without a prior proposal because we view this action as noncontroversial and anticipate no adverse public comment. This rule will be effective, as published in this document, on January 7, 2003, unless we receive written adverse comments or written notice of intent to submit adverse comments on or before December 9, 2002.

Adverse comments are comments that suggest the rule should not be adopted or that suggest the rule should be changed.

If we receive written adverse comments or written notice of intent to submit adverse comments, we will publish a document in the Federal Register withdrawing this rule before the effective date. We will then publish a proposed rule for public comment.

As discussed above, if we receive no written adverse comments or written notice of intent to submit adverse comments that are postmarked, delivered, or e-mailed within 30 days of publication of this direct final rule, this direct final rule will become effective 60 days following its publication. We will publish a document in the Federal Register before the effective date of this direct final rule, confirming that it is effective on the date indicated in this document.

Executive Order 12866 and Regulatory Flexibility Act

This rule has been reviewed under Executive Order 12866. For this action, the Office of Management and Budget has waived its review under Executive Order 12866.

This rule will remove Blaine, WA, as a port of entry for the importation of ratites into the United States. It will also remove Blaine and Lynden, WA, as ports of entry for the importation of poultry, horses, ruminants, swine, and animal germ plasm. We are taking these actions because neither port has been used for the importation of animals or animal germ plasm in over 4 years. These actions would update the regulations so that they accurately reflect the ports used for the importation of certain animals and germ plasm into the United States.

Since the ports of Blaine and Lynden, WA, have not been used to inspect animals and animal germ plasm imported into the United States in approximately 4 years, this action will have no economic effect on any entity. Small entities located at or around the ports of Blaine and Lynden, WA, will not be affected by this proposed rule for the same reason that no economic entity of any size will be affected.

Under these circumstances, the Administrator of the Animal and Plant Health Inspection Service has determined that this action will not have a significant economic impact on a substantial number of small entities.

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no information collection or recordkeeping requirements under the Paperwork Reduction Act of 1995 (44 U.S.C. 3501 et seq.).

List of Subjects

9 CFR Part 93

Animal diseases, Imports, Livestock, Poultry and poultry products, Quarantine, Reporting and recordkeeping requirements.

9 CFR Part 98

Animal diseases and Imports.

Accordingly, we are amending 9 CFR parts 93 and 98 as follows:

PART 93—IMPORTATION OF CERTAIN ANIMALS, BIRDS, AND POULTRY, AND CERTAIN ANIMAL, BIRD, AND POULTRY PRODUCTS; REQUIREMENTS FOR MEANS OF CONVEYANCE AND SHIPPING CONTAINERS

1. The authority citation for part 93 is revised to read as follows:

Authority: 7 U.S.C. 1622, 8303, 8306-8308, 8310, 8313, and 8315; 21 U.S.C. 136 and 136a; 31 U.S.C. 9701; 7 CFR 2.22, 2.80, and 371.4.

§ 93.107 [Amended]

2. In § 93.107, paragraph (b)(2) is amended by removing the words “Blaine, WA;”.

§§ 93.203, 93.303, 93.403, 93.503, and 93.703 [Amended]

3. Sections 93.203(b), 93.303(b)(1), 93.403(b), 93.503(b), and 93.703(a)(2) are amended by removing the words “Blaine, Lynden,” and by removing the comma immediately after the word “Oroville”.

PART 98—IMPORTATION OF CERTAIN ANIMAL EMBRYOS AND ANIMAL SEMEN

4. The authority citation for part 98 is revised to read as follows:

Authority: 7 U.S.C. 1622, 8303, 8306, 8307, 8313, and 8315; 21 U.S.C. 136 and 136a; 31 U.S.C. 9701; 7 CFR 2.22, 2.80, and 371.4.

§ 98.33 [Amended]

5. In § 98.33, paragraph (b) is amended by removing the words “Blaine, Lynden,” and by removing the comma immediately after the word “Oroville”.

Done in Washington, DC, this 5th day of November 2002.
Peter Fernandez,
Acting Administrator, Animal and Plant Health Inspection Service.

[FR Doc. 02-28476 Filed 11-7-02; 8:45 am]

BILLING CODE 3410-34-P